DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing and/or co-development in the U.S. in accordance with 35 U.S.C. 209 and 37 CFR part 404 to achieve expeditious commercialization of results of federally-funded research and development. Foreign patent applications are filed on selected inventions to extend market coverage for companies and may also be available for licensing and/or co-development.

DATES: Only written comments and/or applications for a license which are received by the National Cancer Institute, Technology Transfer Center on or before January 29, 2016 will be considered.

ADDRESSES: Invention Development and Marketing Unit, Technology Transfer Center, National Cancer Institute, 9609 Medical Center Drive, Mail Stop 9702, Rockville, MD, 20850-9702.

FOR FURTHER INFORMATION CONTACT: Information on licensing and co-development research collaborations, and copies of the U.S. patent applications listed below may be obtained by contacting: Attn. Invention Development and Marketing Unit, Technology Transfer Center, National Cancer Institute, 9609 Medical Center Drive, Mail Stop 9702, Rockville, MD, 20850-9702, Tel. 240-276-5515 or email ncitechtransfer@mail.nih.gov. A signed Confidential Disclosure Agreement may be required to receive copies of the patent applications.

SUPPLEMENTARY INFORMATION: Technology description follows.

Title of invention: A Novel Fully-Human Anti-CD30 Chimeric Antigen Receptor for Treatment of CD30+ Lymphoma.

Description of Technology: Chimeric antigen receptors (CARs) are hybrid proteins that consist of two major components: A targeting domain and a signaling domain. The targeting domain allows T cells which express the CAR to selectively recognize and bind to diseased cells that express a particular protein. Once the diseased cell is bound by the targeting domain of the CAR, the signaling domain of the CAR activates the T cell, thereby allowing it to kill the diseased cell. This is a promising new therapeutic approach known as adoptive cell therapy (ACT).

Researchers at the National Cancer Institute's Experimental Transplantation and Immunology Branch developed a CAR that recognizes human tumor necrosis factor receptor superfamily member 8 (TNFRSF8, also known as CD30). The expression of CD30 is deregulated in a variety of human cancers, including many lymphomas. By creating a CAR that recognizes CD30, it may be possible to treat these cancers using adoptive cell therapy.

Potential Commercial Applications

—Treatment of human cancers associated with expression of CD30 or variants thereof

—Specific cancers include: Non-Hodgkins Lymphomas, Hodgkin's Lymphomas, several solid malignancies

Value Proposition

—Human components are less likely to cause adverse or neutralizing immune response in patients

—Targeted therapies decrease non-specific killing of healthy cells and tissues, resulting in fewer off-target side-effects and healthier patients

Development Stage

In vivo/Lead Validation.

Inventor(s)

Jim N. Kochenderfer, M.D. (NCI).

Intellectual Property

HHS Reference No. E-001-2016/0-US-01

US Provisional Application 62/241,896 (HHS Reference No. E-001-2016/0-US-01) filed October 15, 2015 entitled “A Novel Fully-Human Anti-CD30 Chimeric Antigen Receptor for Treatment of CD30+ Lymphoma”

Licensing Opportunity: Researchers at the NCI seek licensees for a chimeric antigen receptor (CAR) that recognizes human tumor necrosis factor receptor superfamily member 8 (TNFRSF8, also known as CD30) for use as a cancer therapeutic.

Contact Information

Requests for copies of the patent application or inquiries about licensing and/or research collaboration and co-development opportunities should be sent to John D. Hewes. Ph.D., email: john.hewes@nih.gov.

Dated: December 22, 2015.
Thomas M. Stackhouse,
Associate Director, Technology Transfer Center, National Cancer Institute.

[FR Doc. 2015-32879 Filed 12-29-15; 8:45 am]

BILLING CODE 4140-01-P